DEPARTMENT OF EDUCATION

[CFDA Nos: 84.334A and 84.334S]

Office of Postsecondary Education, Teacher and Student Development Program Service; Grants and Cooperative Agreements; Availability, etc.

ACTION: Notice Announcing Technical Assistance Workshops for fiscal year (FY) 2006 Gaining Early Awareness and Readiness for Undergraduate Programs (GEAR UP) program.

SUMMARY: The Department expects to hold competitions for new State and Partnership grants under the GEAR UP program in FY 2006. This notice provides information about four one-day technical assistance workshops to assist institutions of higher education, local educational agencies, and States interested in preparing grant applications for FY 2006 new awards under the Gaining Early. Program staff will present information about the purpose of the GEAR UP Program, selection criteria, application content, submission procedures, and reporting requirements.

Although the Department has not yet announced an application deadline date in the Federal Register for the FY 2006 competitions, the Department is holding these workshops to give potential applicants guidance for preparing applications for the competitions we expect to conduct in FY 2006. Specific requirements for the FY 2006 competitions will be published in a separate Federal Register notice. This notice announces the technical assistance workshops only.

FOR FURTHER INFORMATION CONTACT: Angela K. Oliphant, Gaining Early Awareness and Readiness for Undergraduate Programs (GEAR UP) Program, U.S. Department of Education, 1990 K Street, NW., room 6101, Washington, DC 20006-8513. Telephone: (202) 502-7676.

If you use a telecommunications device for the deaf (TDD), you may call the Federal Relay Service (FRS) at 1-800-877-8339.

Individuals with disabilities may obtain this document in an alternative for (e.g., Braille, large print, audio tape, or computer diskette) on request to the contact person listed in this section.

SUPPLEMENTARY INFORMATION: The technical assistance workshops will be held as follows:

1. Philadelphia, Pennsylvania: Monday, December 5, 2005, Hilton Philadelphia, 4200 City Avenue, Philadelphia, PA 19107, Telephone: 215-879-4000.

2. St Louis, Missouri: Tuesday, December 6, 2005, Sheraton St. Louis, 400 South 14th Street, St. Louis, MO 63105, Telephone: 314-231-5007.

3. Atlanta, Georgia: Thursday, December 8, 2005, Holiday Inn Select Conference Center, 450 Capitol Avenue, Atlanta, GA 30312, Telephone: 404-591-2000.

4. Los Angeles, California: Thursday, December 8, 2005, The Wilshire Grand Los Angeles, 930 Wilshire Boulevard 90017, Telephone: 213-688-7777.

All Technical Assistance Workshop sessions will be conducted from 9 a.m. to 5 p.m. each day. Registration is 8 a.m. to 9 a.m. on the day of the session. There is no fee for these workshops. However, space is limited. Attendees are required to make their own reservations directly with the hotel. The Department has reserved a limited number of rooms at each of the hotel sites at a special government room rate. To reserve this rate, be certain to inform the hotel that you are attending the “U.S. Department of Education GEAR UP Program Technical Assistance Workshop.” We encourage attendance from those who will be responsible for providing technical support for uploading the application materials onto the Department of Education's portal site for electronic grants.

Assistance to Individuals With Disabilities Attending the Technical Assistance Workshop

The technical assistance workshop site is accessible to individuals with disabilities. If you need an auxiliary aid or service to participate in the workshop (e.g., interpreting service, assistive listening device, or materials in an alternative format), notify the contact person listed under FOR FURTHER INFORMATON CONTACT. Although we will attempt to meet a request, we may not be able to make available the requested auxiliary aid or service because of insufficient time to arrange it.

Electronic Access to This Document: You may view this document, as well as all other documents of this Department published in the Federal Register, in text or Adobe Portable Document Format (PDF) on the Internet at the following site: http://www.ed.gov/news/fedregister

To use PDF, you must have Adobe Acrobat Reader, which is available free at this site. If you have any questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: www.gpoaccess.gov/nara/index.html

Program Authority: 20 U.S.C. 1070a-21.

Dated: December 2, 2005.
Sally L. Stroup,
Assistant Secretary for Postsecondary Education.

[FR Doc. 05-23686 Filed 12-1-05; 3:57 pm]

BILLING CODE 4000-01-P